DEPARTMENT OF ENERGY

Federal Energy Regulatory Commission

Combined Notice of Filings #1

Take notice that the Commission received the following exempt wholesale generator filings:

Docket Numbers: EG15-131-000.

Applicants: Desert Stateline LLC.

Description: Notice of Self-Certification of Exempt Wholesale Generator Status of Desert Stateline LLC.

Filed Date: 9/24/15.

Accession Number: 20150924-5030.

Comments Due: 5 p.m. ET 10/15/15.

Take notice that the Commission received the following electric rate filings:

Docket Numbers: ER15-1409-002.

Applicants: Midcontinent Independent System Operator, Inc.

Description: Report Filing: 2015-09-24_SA 2769 Refund Report for ATC-City of Reedsburg CFA to be effective N/A.

Filed Date: 9/24/15.

Accession Number: 20150924-5058.

Comments Due: 5 p.m. ET 10/15/15.

Docket Numbers: ER15-1411-002.

Applicants: Midcontinent Independent System Operator, Inc.

Description: Report Filing: 2015-09-24_SA 2770 Refund Report of ATC-City of Sun Prairie CFA to be effective N/A.

Filed Date: 9/24/15.

Accession Number: 20150924-5060.

Comments Due: 5 p.m. ET 10/15/15.

Docket Numbers: ER15-1494-000.

Applicants: Convergent Energy and Power Inc.

Description: Report Filing: Market-Based Rate Tariff Refund Report to be effective N/A.

Filed Date: 9/24/15.

Accession Number: 20150924-5077.

Comments Due: 5 p.m. ET 10/15/15.

Docket Numbers: ER15-2695-000.

Applicants: Crosswind Transmission, LLC.

Description: § 205(d) Rate Filing: Crosswind and Eagle View Transmission and Interconnection Agreement to be effective 11/22/2015.

Filed Date: 9/23/15.

Accession Number: 20150923-5160.

Comments Due: 5 p.m. ET 10/14/15.

Docket Numbers: ER15-2696-000.

Applicants: Crosswind Transmission, LLC.

Description: § 205(d) Rate Filing: Crosswind and Elk Lake Transmission and Interconnection Agreement to be effective 11/22/2015.

Filed Date: 9/23/15.

Accession Number: 20150923-5162.

Comments Due: 5 p.m. ET 10/14/15.

Docket Numbers: ER15-2697-000.

Applicants: Crosswind Transmission, LLC.

Description: § 205(d) Rate Filing: Crosswind and Green Prairie Transmission and Interconnection Agreement to be effective 11/22/2015.

Filed Date: 9/23/15.

Accession Number: 20150923-5163.

Comments Due: 5 p.m. ET 10/14/15.

Docket Numbers: ER15-2698-000.

Applicants: Crosswind Transmission, LLC.

Description: § 205(d) Rate Filing: Crosswind and Highland Transmission and Interconnection Agreement to be effective 11/22/2015.

Filed Date: 9/23/15.

Accession Number: 20150923-5164.

Comments Due: 5 p.m. ET 10/14/15.

Docket Numbers: ER15-2699-000.

Applicants: Crosswind Transmission, LLC.

Description: § 205(d) Rate Filing: Crosswind and Palo Alto Transmission and Interconnection Agreement to be effective 11/22/2015.

Filed Date: 9/23/15.

Accession Number: 20150923-5166.

Comments Due: 5 p.m. ET 10/14/15.

Docket Numbers: ER15-2700-000.

Applicants: Crosswind Transmission, LLC.

Description: § 205(d) Rate Filing: Crosswind and Silver Lake Transmission and Interconnection Agreement to be effective 11/22/2015.

Filed Date: 9/23/15.

Accession Number: 20150923-5167.

Comments Due: 5 p.m. ET 10/14/15.

Docket Numbers: ER15-2701-000.

Applicants: Crosswind Transmission, LLC.

Description: § 205(d) Rate Filing: Crosswind and Sunrise View Transmission and Interconnection Agreement to be effective 11/22/2015.

Filed Date: 9/23/15.

Accession Number: 20150923-5168.

Comments Due: 5 p.m. ET 10/14/15.

Docket Numbers: ER15-2702-000.

Applicants: Crosswind Transmission, LLC.

Description: § 205(d) Rate Filing: Crosswind and Virgin Lake Transmission and Interconnection Agreement to be effective 11/22/2015.

Filed Date: 9/23/15.

Accession Number: 20150923-5169.

Comments Due: 5 p.m. ET 10/14/15.

Docket Numbers: ER15-2703-000.

Applicants: Southern California Edison Company.

Description: § 205(d) Rate Filing: Amended CLGIA and Distribution Service Agreement Tulare Solar Center 1 Project to be effective 9/25/2015.

Filed Date: 9/24/15.

Accession Number: 20150924-5000.

Comments Due: 5 p.m. ET 10/15/15.

Docket Numbers: ER15-2704-000.

Applicants: National Gas & Electric, LLC.

Description: Baseline eTariff Filing: Application for MBR to be effective 9/25/2015.

Filed Date: 9/24/15.

Accession Number: 20150924-5065.

Comments Due: 5 p.m. ET 10/15/15.

Docket Numbers: ER15-2705-000.

Applicants: Southwest Power Pool, Inc.

Description: § 205(d) Rate Filing: Revisions To Address Seams Transmission Projects to be effective 12/1/2015.

Filed Date: 9/24/15.

Accession Number: 20150924-5073.

Comments Due: 5 p.m. ET 10/15/15.

Docket Numbers: ER15-2706-000.

Applicants: Hardin Hilltop Wind, LLC.

Description: Baseline eTariff Filing: Hardin Hilltop and Cy-Hawk Transmission and Interconnection Agreement to be effective 11/23/2015.

Filed Date: 9/24/15.

Accession Number: 20150924-5101.

Comments Due: 5 p.m. ET 10/15/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2015.
Nathaniel J. Davis, Sr.,
Deputy Secretary.

[FR Doc. 2015-24735 Filed 9-29-15; 8:45 am]

BILLING CODE 6717-01-P